DEPARTMENT OF HOUSING AND URBAN DEVELOPMENT

[Docket No. FR-4859-FA-02]

Announcement of Funding Awards for Fiscal Year (FY) 2003 Urban Scholars Fellowship Award Program

AGENCY: Office of the Assistant Secretary for Policy Development and Research, Housing and Urban Development (HUD).

ACTION: Announcement of funding awards.

SUMMARY: The purpose of the HUD Urban Scholar Fellowship Program is to provide encouragement to new scholars to undertake research now, and throughout their careers, on topics of interest to HUD. In accordance with the Department of Housing and Urban Development Reform Act of 1970, Title V, the purpose of this document is to announce to the public the names, research topics, and amounts awarded to the winners for Fiscal Year (FY) 2003.

FOR FURTHER INFORMATION CONTACT: Susan Brunson, Office of University Partnerships, U.S. Department of Housing and Urban Development, Room 8106, 451 Seventh Street, SW., Washington, DC 20410-6000, telephone (202) 708-3061, extension 3852. To provide service for persons who are hearing or speech-impaired, this number may be reached via TTY by dialing the Federal Information Relay Service on (800) 877-8399, or 202-708-1455. (Telephone numbers, other than the two “800” numbers, are not toll free.)

SUPPLEMENTARY INFORMATION: The Urban Scholars Fellowship Program is administered by the Office of University Partnerships Under the General Deputy Assistant Secretary for Policy Development and Research.

Eligible applicants for the Urban Scholar Fellowship Program include only Ph.D.’s who have an academic appointment at an institution of higher education and have received their Ph.D. no earlier than January 1, 1998. The Urban Scholar Fellowship Program provides each participating scholar up to $55,000 for expenses such as salary for two summers, graduate assistants to work on the research project, partial cost of paying for replacements to cover a reduced course load, computer software, the purchase of data, and travel expenses to collect data and make presentations at meetings.

The Catalog of Federal Domestic Assistance number for this program is 14.518.

On October 10, 2003 (68 FR 57768), HUD published a Notice of Funding Availability (NOFA) announcing the availability of approximately $550,000 from the Consolidated Appropriations Resolution (Pub. L. 108-7; approved February 20, 2003), Division K for the Research and Technology Program, Office of Policy Development and Research for this program. Applications were reviewed, evaluated, and scored based on the criteria in the NOFA. As a result, HUD has funded the applications announced below, and in accordance with Section 102(a)(4)(C) of the Department of Housing and Urban Development Reform Act of 1989 (103 Stat. 1987, U.S.C. 3545), the Department is publishing details concerning the recipients of funding awards, as set forth below.

List of Awardees for Grant Assistance Under the FY 2003 Urban Scholars Fellowship Program Funding Competition, by Name, Institution, Research Topic and Grant Amount

New England

1. Scott W. Allard, Brown University, Department of Political Science, 36 Prospect Street, Providence, RI 02912. Title of Project: Access to Social Services in Urban America. Grant Amount: $54,590.

2. Pascale Joassart-Marcelli, University of Massachusetts, Department of Economics, 100 Morrissey Boulevard, Boston, MA 02125. Title of Project: Closing the Gap between Housing and Job Locations: The Role of Rental Assistance Programs. Grant Amount: $54,975.

New York/New Jersey

3. Niki T. Dickerson, Rutgers University, Department of Labor Studies and Employment, 50 Labor Center Way, New Brunswick, NJ 08901. Title of Project: Residential Segregation and Access to Economic Opportunity for Blacks and Latinos. Grant Amount: $52,920.

Mid-Atlantic

4. Tama Leventhal, Johns Hopkins University, Institute for Policy Studies, Wyman Building 546, 3400 North Charles Street, Baltimore, MD 21218. Title of Project: The Influence of Neighborhood Transformation on Child and Adolescent Well-Being. Grant Amount: $55,000.

Midwest

5. Christopher DeSousa, University of Wisconsin, Milwaukee, Department of Geography, Milwaukee, WI 53201. Title of Project: Increasing residential development activity on urban brownfields: An examination of redevelopment trends, developer perceptions, and future prospects. Grant Amount: $51,084.

Midwest

6. Nancy Theresa Kinney, University of Missouri, St. Louis, Department of Political Science SSB 347, 8001 Natural Bridge Road, St. Louis, MO 63121-4499. Title of Project: Strengthening the Participation of Faith-Based Organizations in Community Development: the Promise and Peril of the Congregational Spin-off Process. Grant Amount: $55,000.

Southeast/Caribbean

7. Casey J. Dawkins, Virginia Polytechnic Institute and State University, 211 Architecture Annex, Urban Affairs and Planning (0113), Blacksburg, VA 24061. Title of Project: Racial Gaps in the Transition to First-Time Homeownership: the Role of Residential Segregation. Grant Amount: $53,164.

Southeast/Caribbean

8. Kristin E. Larsen, University of Florida, Department of Urban and Regional Planning P.O. Box 115706, Gainesville, FL 32611-5706. Title of Project: Defining Characteristics and Implementation: Analysis of Housing Trust Funds With a Focus on Florida's SHIP Program. Grant Amount: $52,862.

Pacific/Hawaii

9. Thomas Davidoff, University of California, Berkeley, Haas School of Business, Berkeley, CA 94720. Title of Project: Prospects for Expansion of the U.S. Reverse Mortgage Industry. Grant Amount: $50,492.

10. Stephanie Dyer, Sonoma State University, 222 Baja Avenue, Davis, CA 94928-3609. Title of Project: Markets in the Meadows: How Suburban Shopping Centers Changed the American City, 1920-1980. Grant Amount: $53,276.

Dated: March 18, 2004.
Darlene F. Williams,
General Deputy Assistant Secretary for Policy Development and Research.

[FR Doc. 04-8139 Filed 4-9-04; 8:45 am]

BILLING CODE 4210-62-P